DEPARTMENT OF STATE

[Public Notice 6944]

Notice of Proposal To Extend the Memorandum of Understanding Between the Government of the United States of America and the Government of the Republic of Italy Concerning the Imposition of Import Restrictions on Categories of Archaeological Material Representing the Pre-Classical, Classical and Imperial Roman Periods of Italy

The Government of the Republic of Italy has informed the Government of the United States of its interest in an extension of the Memorandum of Understanding Between the Government of the United States of America and the Government of the Republic of Italy Concerning the Imposition of Import Restrictions on Categories of Archaeological Material Representing the Pre-Classical, Classical and Imperial Roman Periods of Italy.

Pursuant to the authority vested in the Under Secretary for Public Diplomacy and Public Affairs, and pursuant to the requirement under 19 U.S.C. 2602(f)(1), an extension of this Memorandum of Understanding is hereby proposed.

Pursuant to 19 U.S.C. 2602(f)(2), the views and recommendations of the Cultural Property Advisory Committee regarding this proposal will be requested.

A copy of this Memorandum of Understanding, the designated list of restricted categories of material, and related information can be found at the following Web site: http://exchanges.state.gov/heritage/culprop.

Dated: March 29, 2010.
Judith A. McHale,
Under Secretary, Public Diplomacy and Public Affairs, Department of State.

[FR Doc. 2010-7894 Filed 4-6-10; 8:45 am]

BILLING CODE 4710-05-P